DEPARTMENT OF COMMERCE

National Oceanic and Atmospheric Administration

[RTID 0648-XB834]

Mid-Atlantic Fishery Management Council (MAFMC); Public Meeting

AGENCY: National Marine Fisheries Service (NMFS), National Oceanic and Atmospheric Administration (NOAA), Commerce.

ACTION: Notice; public meeting.

SUMMARY: The Scientific and Statistical Committee (SSC) of the Mid-Atlantic Fishery Management Council (Council) will hold a meeting.

DATES: The meeting will be held on Tuesday, March 15, 2022, starting at 9:30 a.m. and continue through 2:30 p.m. on Wednesday, March 16, 2022. See SUPPLEMENTARY INFORMATION for agenda details.

ADDRESSES: The meeting will take place over webinar using the Webex platform with a telephone-only connection option. Details on how to connect to the webinar by computer and by telephone will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will review and possibly modify the 2022 acceptable biological catch (ABC) recommendations for Illex squid based on updated analysis and work products developed as part of an ongoing Council contract to evaluate recent changes to the fishery and stock dynamics. The SSC will also provide 2023-24 Atlantic Mackerel rebuilding ABC recommendations for different Council rebuilding alternatives and previous SSC guidance on stock projections. The SSC will also review the most recent survey and fishery data and the previously recommended 2023 ABC for Golden and Blueline Tilefish. The SSC will also review and provide feedback on the most recent Mid-Atlantic State of the Ecosystem report, other Ecosystem Approach to Fisheries Management (EAFM) related activities, and the work plan of the SSC's Ecosystem Work Group. The SSC will discuss and develop a plan to address the Council's motion for SSC input regarding the Council's Recreational Harvest Control Rule management action. In addition, the SSC will receive an update on the activities and future products of the Economic Work Group. The SSC may take up any other business as necessary.

A detailed agenda and background documents will be made available on the Council's website (www.mafmc.org) prior to the meeting.

Special Accommodations

These meetings are physically accessible to people with disabilities. Requests for sign language interpretation or other auxiliary aid should be directed to Shelley Spedden, (302) 526-5251, at least 5 days prior to the meeting date.

Authority: 16 U.S.C. 1801 et seq.

Dated: February 22, 2022.
Tracey L. Thompson,
Acting Deputy Director, Office of Sustainable Fisheries, National Marine Fisheries Service.

[FR Doc. 2022-04037 Filed 2-24-22; 8:45 am]

BILLING CODE 3510-22-P